DEPARTMENT OF ENERGY

Federal Energy Regulatory Commission

Combined Notice of Filings

Take notice that the Commission has received the following Natural Gas Pipeline Rate and Refund Report filings:

Filings Instituting Proceedings

Docket Number: PR18-65-000.

Applicants: Montana-Dakota Utilities Co.

Description: Tariff filing per 284.123(b), (e) + (g): Revision to Statement of Effective Rates to be effective 6/15/2018.

Filed Date: 7/11/18.

Accession Number: 201807115156.

Comments Due: 5 p.m. ET 8/1/18.

284.123(g) Protests Due: 5 p.m. ET 9/10/18.

Docket Numbers: RP18-968-000.

Applicants: Iroquois Gas Transmission System, L.P.

Description: § 4(d) Rate Filing: 071218 Negotiated Rates—Tenaska Marketing Ventures R-2835-19 to be effective 9/1/2018.

Filed Date: 7/12/18.

Accession Number: 20180712-5055.

Comments Due: 5 p.m. ET 7/24/18.

Docket Numbers: RP18-969-000.

Applicants: Iroquois Gas Transmission System, L.P.

Description: § 4(d) Rate Filing: 071218 Negotiated Rates—NJR Energy Services Company R-2890-17 to be effective 9/1/2018.

Filed Date: 7/12/18.

Accession Number: 20180712-5057.

Comments Due: 5 p.m. ET 7/24/18.

Docket Numbers: RP18-970-000.

Applicants: NextEra Energy Marketing, LLC, EQT Energy, LLC.

Description: Joint Petition for Temporary Waivers of Capacity Release Regulations and Related Tariff Provisions, et al. of NextEra Energy Marketing, LLC, et al.

Filed Date: 7/12/18.

Accession Number: 20180712-5136.

Comments Due: 5 p.m. ET 7/19/18.

Docket Numbers: RP18-971-000.

Applicants: Northern Natural Gas Company.

Description: § 4(d) Rate Filing: 20180712 Rate Schedules TF and TFX and Misc Tariff Revisions to be effective 8/12/2018.

Filed Date: 7/12/18.

Accession Number: 20180712-5145.

Comments Due: 5 p.m. ET 7/24/18.

Docket Numbers: RP18-972-000.

Applicants: Rover Pipeline LLC.

Description: § 4(d) Rate Filing: Unauthorized Overrun Quantity Filing to be effective 8/1/2018.

Filed Date: 7/12/18.

Accession Number: 20180712-5146.

Comments Due: 5 p.m. ET 7/24/18.

Docket Numbers: RP18-973-000.

Applicants: El Paso Natural Gas Company, L.L.C.

Description: § 4(d) Rate Filing: Negotiated Rate Agreement Update (Pioneer July 2, 2018) to be effective 7/13/2018.

Filed Date: 7/12/18.

Accession Number: 20180712-5173.

Comments Due: 5 p.m. ET 7/24/18.

Docket Numbers: RP18-974-000.

Applicants: Tennessee Gas Pipeline Company, L.L.C.

Description: § 4(d) Rate Filing: Market Area Pooling Area Revisions and Other Tariff Changes to be effective 10/1/2018.

Filed Date: 7/12/18.

Accession Number: 20180712-5175.

Comments Due: 5 p.m. ET 7/24/18.

Docket Numbers: RP18-419-001.

Applicants: Dominion Energy Cove Point LNG, LP.

Description: Compliance filing DECP—Liquefaction Project Implementation (RP18-419) Compliance to be effective 4/9/2018.

Filed Date: 7/13/18.

Accession Number: 20180713-5144.

Comments Due: 5 p.m. ET 7/25/18.

Docket Numbers: RP18-975-000.

Applicants: Algonquin Gas Transmission, LLC.

Description: § 4(d) Rate Filing: NCF Cleanup Filing—Termination of NRG Canal K #510534 to be effective 8/13/2018.

Filed Date: 7/13/18.

Accession Number: 20180713-5037.

Comments Due: 5 p.m. ET 7/25/18.

Docket Numbers: RP18-976-000.

Applicants: Millennium Pipeline Company, LLC.

Description: § 4(d) Rate Filing: Negotiated Rates Update Filing to be effective 8/13/2018.

Filed Date: 7/13/18.

Accession Number: 20180713-5041.

Comments Due: 5 p.m. ET 7/25/18.

Docket Numbers: RP18-977-000.

Applicants: Tennessee Gas Pipeline Company, L.L.C.

Description: § 4(d) Rate Filing: Broad Run Expansion Project—Recourse Rate & Incremental Fuel and EPCR to be effective 8/15/2018.

Filed Date: 7/13/18.

Accession Number: 20180713-5065.

Comments Due: 5 p.m. ET 7/25/18.

Docket Numbers: RP18-978-000.

Applicants: Tennessee Gas Pipeline Company, L.L.C.

Description: § 4(d) Rate Filing: Volume No. 2—Broad Run Expansion Project to be effective 8/15/2018.

Filed Date: 7/13/18.

Accession Number: 20180713-5079.

Comments Due: 5 p.m. ET 7/25/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2018.
Kimberly D. Bose,
Secretary.

[FR Doc. 2018-15555 Filed 7-19-18; 8:45 am]

BILLING CODE 6717-01-P